DEPARTMENT OF TRANSPORTATION

Federal Highway Administration

Environmental Impact Statement: Denton and Collin Counties, Texas

AGENCY: Federal Highway Administration (FHWA), Department of Transportation.

ACTION: Federal notice of intent to prepare an Environmental Impact Statement (EIS).

SUMMARY: Pursuant to applicable Federal regulations, FHWA, on behalf of TxDOT, is issuing this notice to advise the public that an EIS will be prepared for a proposed transportation project CSJ 0918-46-341, to construct a six-lane freeway primarily on new location connecting Interstate 35 (I-35) in Denton County, Texas with the Dallas North Tollway (DNT) in Collin County, Texas.

FOR FURTHER INFORMATION CONTACT: Mr. Liang Ding, P.E., Project Manager, TxDOT Dallas District, 4777 East Highway 80, Mesquite, Texas 75150; Phone (214) 320-6625; email: Liang.Ding@txdot.gov. TxDOT's normal business hours are 8:00 a.m.-5:00 p.m. (central time), Monday through Friday.

SUPPLEMENTARY INFORMATION: The environmental review, consultation, and other actions required by applicable Federal environmental laws for this project are being, or have been, carried out by TxDOT pursuant to 23 U.S.C. 327 and a Memorandum of Understanding dated December 9, 2019, and executed by FHWA and TxDOT.

The purpose of the proposed action is to address population and travel demand growth and support safe and resilient east-west mobility and connectivity across Denton County. The need for the proposed action is driven by (a) rapid population growth and increasing traffic volumes that are contributing to congestion, (b) higher crash rates along Study Area roadways compared to the statewide average, and (c) limited mobility due to the lack of contiguous east-west arterials.

The proposed six-lane access-controlled freeway with one-way frontage roads on each side would be constructed within an anticipated typical right-of-way footprint 500 feet wide and extend about 23 miles across northern Denton County connecting I-35 to the DNT in Collin County, CSJ 0918-46-341. In addition to the build alternatives, project alternatives to be considered include the No-Build Alternative, transit and other transportation modes, and transportation system management.

In May 2024, Denton County concluded the Denton County Outer Loop Feasibility Study that recommended two general end-to-end alignments for the construction of the proposed freeway connecting I-35 and the DNT. This EIS will evaluate four build alternatives and the No-Build Alternative. The following five segments from the recommended feasibility study alignments combine to form the four build alternatives under consideration:

Segment A connects I-35 on the west along a primarily new location alignment to Farm-to-Market (FM) Road 428 near FM 2153. Segment A follows a section of Rector Rd. from I-35 to Trietsch Rd.

Segment B also connects I-35 on the west on a primarily new location alignment to FM 428 near FM 2153. Segment B follows a portion of Milam Rd. from I-35 to FM 2164.

Segment C is the common segment for all four build alternatives considered, extending along the existing alignment of FM 428 between FM 2153 and Wildcat Rd. which crosses the Elm Fork Trinity River and the Ray Roberts Lake State Park Greenbelt in the center of the Study Area.

Segment D connects Wildcat Rd. on the west to the DNT on the east in Collin County. Segment D is primarily on new location except where it follows sections of FM 428 between FM 1385 and the DNT.

Segment E also connects Wildcat Rd. on the west to the DNT on the east in Collin County. Segment E is primarily on new location except where it follows sections of Blackjack Rd. and FM 428 between FM 1385 and the DNT.

These segments, when linked end-to-end connecting the logical termini of I-35 and the DNT, result in the Red, Purple, Blue, and Gold Alternatives described below.

The Red Alternative is composed of Segments A, C, and D for a length of about 23.3 miles. The Red Alternative begins at I-35 and Rector Rd. in Denton County and travels east to FM 2164, then curves north and back south to connect to FM 428 near FM 2153. It follows FM 428 over the Elm Fork Trinity River to slightly west of the City of Aubrey where it curves around the north edge of Aubrey crossing US 377, to continue east, then curving south to connect to FM 428/Spring Hill Rd. west of FM 1385, and continues east along the general alignment of FM 428 to connect to the DNT in Collin County. Grade-separated interchanges would be considered at I-35, US 377, the DNT, and other major road crossings.

The Purple Alternative, about 22.7 miles long, is composed of Segments A, C, and E. It begins at I-35 and Rector Rd. in Denton County and travels east to FM 2164, then curves north and back south to connect to existing FM 428 near FM 2153. It follows FM 428 over the Elm Fork Trinity River to slightly west of the City of Aubrey where it curves around the north edge of Aubrey crossing US 377, tying into Blackjack Rd. and following Blackjack Rd. to the east and curving south to cross FM 2931 to follow the general alignment of FM 428/Spring Hill Rd. to the east to connect to the DNT in Collin County. Grade-separated interchanges would be considered at I-35, US 377, the DNT, and other major road crossings.

The Blue Alternative is composed of Segments B, C, and E for a length of about 22.4 miles. The Blue Alternative begins at I-35 and Milam Rd. extending east along Milam Rd. to FM 2164 where it curves north and east to follow Shepard Rd. and then curves south to connect to FM 428 near FM 2153. It follows FM 428 over the Elm Fork Trinity River to slightly west of the City of Aubrey where it curves around the north edge of Aubrey crossing US 377, tying into Blackjack Rd. and following Blackjack Rd. to the east and curving south to cross FM 2931 to follow the general alignment of FM 428/Spring Hill Rd. to the east to connect to the DNT in Collin County. Grade-separated interchanges would be considered at I-35, US 377, the DNT, and other major road crossings.

The Gold Alternative, about 23.0 miles long, is composed of Segments B, C, and D. It begins at I-35 and Milam Rd. extending east along Milam Rd. to FM 2164 where it curves north and east to follow Shepard Rd. and then curves south to connect to FM 428 near FM 2153. It follows FM 428 over the Elm Fork Trinity River to slightly west of the City of Aubrey where it curves around the north edge of Aubrey crossing US 377, to continue east, then curving south to connect to existing FM 428/Spring Hill Rd. west of FM 1385, and continues east along the general alignment of FM 428 to connect to the DNT in Collin County. Grade-separated interchanges would be considered at I-35, US 377, the DNT, and other major road crossings.

The new location build alternatives share common alignments with the potential to result in wetland and waters of the U.S. impacts, floodplain/floodway encroachment and the need for compensatory storage, encroachment onto Federal conservation easements, the use of public parkland (Section 4(f)), loss of woodlands, conversion of farmland to transportation use, residential and business displacements, impacts to potential hazardous material sites, traffic noise, changes to the visual environment, impacts to historic and archeological resources, and induced growth and cumulative effects.

The proposed action may require issuance of an Individual or Nationwide Permit under section 404 of the Clean Water Act, an individual Section 401 Water Quality Certification, a Section 402/Texas Pollutant Discharge Elimination System Permit, and a Section 408 Permit; conformance with Executive Orders on Environmental Justice (12898), Limited English Proficiency (13166), Wetlands (11990), Floodplain Management (11988), Invasive Species (13112); and compliance with Section 106 of the National Historic Preservation Act, Section 7 of the Endangered Species Act, the Migratory Bird Treaty Act, section 4(f) of the DOT Act (49 U.S.C. 303), section 6(f) of the Land and Water Conservation Act (16 U.S.C. 4601), title VI of the Civil Rights Act, and other applicable Federal and State regulations.

TxDOT anticipates completing the study process for this proposed action by September 2026. The Draft EIS would be issued in February 2026, and the combined Final EIS and Record of Decision (ROD) would be issued in September 2026.

The following entities have been invited to be cooperating agencies for this EIS: U.S. Army Corps of Engineers, Fort Worth District (USACE), Texas Parks and Wildlife Department (TPWD), and the Texas Historical Commission (THC).

The following entities have been invited to be participating agencies for this EIS: Commanche Nation of Oklahoma; Delaware Nation; Federal Aviation Administration; Federal Railroad Administration; Federal Transit Administration, Region 6; Jena Band of Choctaw Indians; Kiowa Tribe; Mescalero Apache Tribe; North Central Texas Council of Governments; North Texas Municipal Water District; North Texas Tollway Authority; Public Utility Commission of Texas; Shawnee Tribe; Texas Commission on Environmental Quality; Texas Department of Housing and Community Affairs; Texas General Land Office; Texas Railroad Commission; Texas State Soil and Water Conservation Board; The Lakes Freshwater District; The Muskogee Nation; Tonkawa Tribe of Oklahoma; Upper Trinity Regional Water District; U.S. Coast Guard; U.S. Department of Agriculture, Natural Resources Conservation Service; U.S. Department of Homeland Security, Federal Emergency Management Agency; U.S. Department of Housing and Urban Development; U.S. Department of the Interior, Fish and Wildlife Service; U.S. Environmental Protection Agency, Region 6; Wichita and Affiliated Tribes; Collin County; City of Aubrey; City of Celina; City of Cross Roads; City of Dallas Water Utilities; City of Denton; City of Frisco; City of Krugerville; City of Pilot Point; and City of Sanger.

TxDOT intends to coordinate throughout the NEPA process with the USACE to enable them to adopt the Draft and Final EIS, or portions thereof, to determine its overall sufficiency in order to identify and substantiate the USACE's Preliminary Least Environmentally Damaging Most Practicable Alternative (LEDPA) and to develop their own ROD to provide the basis for future Division of the Army permit and real estate decisions; the TPWD under the 2021 Memorandum of Understanding for the review and coordination of transportation projects codified under title 43, Texas Administrative Code, part 1, chapter 2, subchapter G, sections 2.201-2.207 and as an owner and manager of public lands within the Study Area protected by chapter 26 of the Parks and Wildlife Code; and the THC under the Texas Antiquities Code, section 106 of the National Historic Preservation Act, and Section 4(f) of the DOT Act for potential unavoidable impacts to National Register of Historic Places eligible resources.

TxDOT will issue a single Final EIS and ROD document pursuant to 23 U.S.C. 139(n)(2), unless TxDOT determines statutory criteria or practicability considerations preclude the issuance of a combined document.

In accordance with 23 U.S.C. 139, cooperating agencies, participating agencies, and the public will be given an opportunity for continued input on project development. An agency scoping meeting was held with cooperating and participating agencies on September 4, 2024, with comments requested by September 20, 2024. Public scoping meetings are planned for October 29, 2024, in Pilot Point and October 30, 2024, in Denton. The scoping meetings provide an opportunity for the cooperating and participating agencies along with stakeholders and the public to review and comment on the draft coordination plan and schedule, the project purpose and need, the range of alternatives, and methodologies and level of detail for analyzing alternatives. They will also allow all parties an opportunity to provide input on any expected environmental impacts, anticipated permits or other authorizations, and any significant issues that should be analyzed in depth in the EIS. Notices will be published in October 2024 announcing the time and location of each public scoping meeting. In addition to public scoping meetings, other public meetings will be held during the development of the Draft EIS and public hearings will be held after the Draft EIS is prepared. Public notice will be given of the date, time, and location of future meetings and hearings.

The public meetings and hearings will be conducted in English. If you need an interpreter or document translator because English is not your primary language or you have difficulty communicating effectively in English, one will be provided to you. If you have a disability and need assistance, special arrangements can be made to accommodate most needs. If you need interpretation or translation services or you are a person with a disability who requires an accommodation to attend and participate in the public meeting, please contact Madeline Shepherd, Denton County Outer Loop Project Team, info@dentoncountyouterloop.com, by mail to Burns & McDonnell, ATTN: Denton County Outer Loop, 13737 Noel Road, Suite 700, Dallas, Texas 75240, or at (469) 294-4502 no later than 4 p.m. CT, on October 24, 2024. Please be aware that advance notice is required as some services and accommodations may require time for the Texas Department of Transportation to arrange.

The public is requested to provide comments on alternatives or impacts and on relevant information, studies, or analyses with respect to this proposed project. Comments may be provided in writing to Madeline Shepherd, Denton County Outer Loop Project Team, info@dentoncountyouterloop.com or by mail to Burns & McDonnell, ATTN: Denton County Outer Loop, 13737 Noel Road, Suite 700, Dallas, Texas 75240. Comments must be received by November 29, 2024.

(Catalog of Federal Domestic Assistance Program Number 20.205, Highway Planning and Construction.)

Authority: 23 CFR 771.123(a).

Michael T. Leary,
Director, Planning and Program Development, Federal Highway Administration.

[FR Doc. 2024-22011 Filed 9-25-24; 8:45 am]

BILLING CODE 4910-22-P